NUCLEAR REGULATORY COMMISSION

10 CFR Chapter I

[NRC-2018-0185]

Use of Electronic Signatures by Medical Licensees on Internal Documents

AGENCY: Nuclear Regulatory Commission.

ACTION: Draft regulatory issue summary; discontinuation.

SUMMARY: The U.S. Nuclear Regulatory Commission is discontinuing the publication of draft regulatory issue summary (RIS), “Use of Electronic Signatures by Medical Licensees on Internal Documents,” because the guidance no longer provides useful information as the contents are now considered standard practice.

DATES: The effective date for discontinuation of the draft RIS is April 29, 2022.

ADDRESSES: Please refer to Docket ID NRC-2018-0185 when contacting the NRC about the availability of information regarding this document. You may obtain publicly available information related to this document using any of the following methods:

• Federal Rulemaking Website: Go to https://www.regulations.gov and search for Docket ID NRC-2018-0185. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's Public Document Room (PDR), Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Said Daibes Figueroa, Office of Nuclear Material Safety and Safeguards, U.S. Nuclear Regulatory Commission, Washington, DC 20555-0001; telephone: 301-415-6863, email: Said.Daibes@nrc.gov.

SUPPLEMENTARY INFORMATION:

I. Background

On October 20, 2010, the NRC published a notice in the Federal Register (75 FR 64749) requesting public comment on specific issues related to the use of electronic signatures in medical licensee documents. Many of the commenters supported the view that the NRC should be receptive to licensees' use of electronic signatures and adopt its use for licensees' internal documents because the use of electronic medical records has become standard practice in medical facilities. The NRC assessed public comment responses to identify means by which medical licensees can use electronic signatures to satisfy NRC's signature requirements. The comments are publicly available in ADAMS under Accession No. ML21131A034. A draft RIS “Use of Electronic Signatures by Medical Licensees on Internal Documents,” was developed summarizing the findings and published in the Federal Register (83 FR 44247) on August 30, 2018, seeking public comment. The comments received were supportive of the adoption of the use of electronic signatures by NRC medical licensees. The comments are publicly available through ADAMS Accession Nos. ML21105A813 and ML21105A812.

II. Additional Information

The NRC is discontinuing the issuance of the draft RIS, “Use of Electronic Signatures by Medical Licensees on Internal Documents,” because the use of electronic signatures within the medical community, including electronic signatures that uniquely identify the signed individual, provide authentications and non-repudiation, and assure data integrity, has become such common practice that the guidance in this RIS no longer provides useful information.

The draft RIS was published in the Federal Register for comment on August 30, 2018 (83 FR 44247). The draft RIS described one means by which medical licensees can use electronic signatures to satisfy NRC's signature requirements on internal records that the NRC requires the licensee to maintain. The comments received during the public comment period on the draft RIS may be considered by the NRC staff for the development of any future related guidance. Should such guidance be developed, the NRC will inform the public through a new notice of availability of the documents for public comment in the Federal Register.

This notice documents final staff action on docket NRC-2018-0185. No further action is expected for this docket.

As noted in “Relocation of Regulatory Issue Summary Notices in the Federal Register” (May 8, 2018, 83 FR 20858), this document is being published in the Proposed Rules section of the Federal Register to comply with publication requirements under chapter I of title 1 of the Code of Federal Regulations.

Dated: April 25, 2022.
For the Nuclear Regulatory Commission.
Christian E. Einberg,
Chief, Medical Safety and Events Assessments Branch, Division of Materials Safety, Security, State and Tribal Programs, Office of Nuclear Material Safety and Safeguards.

[FR Doc. 2022-09172 Filed 4-28-22; 8:45 am]

BILLING CODE 7590-01-P